DEPARTMENT OF STATE

[Public Notice 5002]

Bureau of Educational and Cultural Affairs (ECA) Request for Grant Proposals: East Timor and South Pacific Scholarship Programs

Announcement Type: New Cooperative Agreement.

Funding Opportunity Number: ECA/A/E/EAP-05-01.

Catalog of Federal Domestic Assistance Number: 00.000.

Application Deadline: April 14, 2005.

Executive Summary: The Office of Academic Programs of the Bureau of Educational and Cultural Affairs announces an open competition to administer the United States-East Timor (USET) Scholarship Program and the United States-South Pacific (USSP) Scholarship Program. Eligible applicants may submit a proposal to administer one or both of the scholarship programs. Public and private non-profit organizations meeting the provisions described in Internal Revenue Code section 26 U.S.C. 501(c)(3) may submit proposals to organize and carry out academic exchange program activities for students from East Timor and the sovereign island nations of the South Pacific (eligible nations are listed below in the Overview section). The grantee(s) will be responsible for all aspects of the programs, including publicity and recruitment of applicants; merit-based competitive selection; placement of students at an accredited U.S. academic institution; student travel to the U.S.; orientation; up to four years of U.S. degree study at the bachelor's or master's level; enrichment programming; advising, monitoring and support; pre-return activities; evaluation; and follow-up with program alumni. The duration of the grant(s) will be up to five years, beginning in Summer 2005. The Conference Report accompanying the FY-2005 Consolidated Appropriations Act (Pub. L. 108-447) earmarks $500,000 to support the U.S.-East Timor Scholarship Program and $500,000 to support the U.S.-South Pacific Scholarship Program.

I. Funding Opportunity Description

Authority: Overall grant making authority for this program is contained in the Mutual Educational and Cultural Exchange Act of 1961, Public Law 87-256, as amended, also known as the Fulbright-Hays Act. The purpose of the Act is “to enable the Government of the United States to increase mutual understanding between the people of the United States and the people of other countries; to strengthen the ties which unite us with other nations by demonstrating the educational and cultural interests, developments, and achievements of the people of the United States and other nations * * * and thus to assist in the development of friendly, sympathetic and peaceful relations between the United States and the other countries of the world.” The funding authority for the program above is provided through legislation.

Purpose: In response to Public Law 103-236, which directed the Bureau of Educational and Cultural Affairs (ECA) to provide scholarships to students from East Timor and from the sovereign island nations of the South Pacific region, ECA created the USET Scholarship Program and the USSP Scholarship Program for academic study at accredited colleges and universities in the United States.

United States—East Timor Scholarship Program Overview: The goal of the USET Scholarship Program is to identify and support undergraduate level study at accredited higher education institutions in the United States for a select cadre of academically talented East Timorese who are expected to assume future leadership roles in East Timor's development. As East Timor makes the transition to independence and democratic government, it is essential to develop the human resource capacity of the East Timorese people, especially in fields such as agricultural science, business, communications, economics, education, environmental science, international relations, political science, and psychology. The eligible academic fields of study were selected to emphasize the areas of critical development need in East Timor.

USET scholarships are typically offered for four years total including up to one year of English language and pre-academic training followed by up to three years for the completion of the undergraduate degree in designated fields. In almost all cases, USET students will have undergraduate credits for transfer from their home institutions.

United States—South Pacific Scholarship Program Overview: The USSP Scholarship Program was established by the United States Congress to provide opportunities for U.S. study to students from South Pacific nations in fields important for the region's future development. Public Law 103-236 authorized academic scholarships to qualified students from the sovereign island nations of the South Pacific region to pursue undergraduate and graduate study at institutions of higher education in the United States.

This program supports increased mutual understanding between the people of the U.S. and those of the South Pacific Islands. Students from the following nations are eligible to apply for these scholarships: Cook Islands, Fiji, Kiribati, Niue, Papua New Guinea, Samoa, Solomon Islands, Tonga, Tuvalu, and Vanuatu.

Fields of study under the program are based on recommendations from Department of State regional bureau representatives and Public Affairs Sections (PAS) at U.S. embassies abroad and have included public administration, journalism, education, environmental studies, agriculture, political science, business and other fields. The grantee organization should arrange for the students' enrollment at accredited U.S. institutions of higher education where a full liberal arts curriculum (including social sciences, humanities and sciences) is available. Students selected for these scholarships enroll in four-year undergraduate degree programs, or in master's degree programs. The latter have generally involved one year of preparatory U.S. study followed by up to two years of formal master's degree study.

The requirements for administration of this program are outlined in further detail in this document and in the Program Objectives, Goals and Implementation (POGI) document. The proposal should respond to each item in the POGI.

In a cooperative agreement, the Bureau is substantially involved in program activities above and beyond routine grant monitoring. Bureau activities and responsibilities for this program include:

(1) Participation in the design and direction of program activities;

(2) Approval of key personnel;

(3) Approval and input on program timelines and agendas;

(4) Guidance in execution of all program components;

(5) Review and approval of all program publicity and recruitment materials;

(6) Participation in student interview and selection panels;

(7) Review of selection decisions prior to offer of award;

(8) Consultation on and approval of academic placement assignments;

(9) Approval of changes to students' proposed academic field or institution;

(10) Approval of decisions related to special circumstances or problems throughout duration of program;

(11) Assistance with SEVIS-related issues;

(12) Assistance with participant emergencies;

(13) Liaison with relevant U.S. Embassies and country desk officers at the State Department.

II. Award Information

Type of Award: Cooperative Agreement.

The Bureau's level of involvement in this program is listed under number I above.

Fiscal Year Funds: 2005.

Approximate Total Funding: $1 million.

Approximate Number of Awards: 1-2.

Anticipated Project Start Date: June 2005, pending availability of funds.

Anticipated Project Completion Date: June 2010.

Additional Information: Pending successful implementation of this program and the availability of funds in subsequent fiscal years, it is the Bureau's intent to renew the grant(s) for two additional fiscal years, before openly competing it again.

III. Eligibility Information

III.1 Eligible Applicants

Applications may be submitted by public and private non-profit organizations meeting the provisions described in Internal Revenue Code section 26 U.S.C. 501(c)(3).

III.2 Cost Sharing or Matching Funds

There is no minimum or maximum percentage required for this competition. However, the Bureau encourages applicants to provide maximum levels of cost sharing and funding in support of its programs.

When cost sharing is offered, it is understood and agreed that the applicant must provide the amount of cost sharing as stipulated in its proposal and later included in an approved grant agreement. Cost sharing may be in the form of allowable direct or indirect costs. For accountability, the grantee must maintain written records to support all costs which are claimed as your contribution, as well as costs to be paid by the Federal government. Such records are subject to audit. The basis for determining the value of cash and in-kind contributions must be in accordance with OMB Circular A-110, (Revised), Subpart C.23—Cost Sharing and Matching. In the event you do not provide the minimum amount of cost sharing as stipulated in the approved budget, ECA's contribution will be reduced in like proportion.

III.3 Other Eligibility Requirements

Bureau grant guidelines require that organizations with less than four years experience in conducting international exchanges be limited to $60,000 in Bureau funding. The Bureau anticipates awarding one grant in an amount up to $1 million, or two grants of up to $500,000 each, to support program and administrative costs required to implement the exchange program(s). Therefore, organizations with less than four years experience in conducting international exchanges are ineligible to apply under this competition. The Bureau encourages applicants to provide maximum levels of cost sharing and funding in support of its programs.

IV. Application and Submission Information

Note: Please read the complete Federal Register announcement before sending inquiries or submitting proposals. Once the RFGP deadline has passed, Bureau staff may not discuss this competition with applicants until the proposal review process has been completed.

IV.1 Contact Information To Request an Application Package

Please contact the East Asia and Pacific Programs Branch, ECA/A/E/EAP, Room 208, U.S. Department of State, SA-44, 301 4th Street, SW., Washington, DC 20547, phone: (202) 453-8102, fax: (202) 453-8107, e-mail: mcmahonmp@state.gov to request a Solicitation Package. Please refer to the Funding Opportunity Number ECA/A/E/EAP-05-01 located at the top of this announcement when making your request.

The Solicitation Package contains the Proposal Submission Instruction (PSI) document, which consists of required application forms, and standard guidelines for proposal preparation.

It also contains the Project Objectives, Goals and Implementation (POGI) document, which provides specific information, award criteria and budget instructions tailored to this competition.

Please specify Matthew McMahon and refer to the Funding Opportunity Number ECA/A/E/EAP-05-01 located at the top of this announcement on all other inquiries and correspondence.

IV.2 To Download a Solicitation Package Via Internet

The entire Solicitation Package may be downloaded from the Bureau's Web site at http://exchanges.state.gov/education/rfgps/menu.htm. Please read all information before downloading.

IV.3 Content and Form of Submission

Applicants must follow all instructions in the Solicitation Package. The original and 10 copies of the application should be sent per the instructions under IV.3e. “Submission Dates and Times section” below.

IV.3a You are required to have a Dun and Bradstreet Data Universal Numbering System (DUNS) number to apply for a grant or cooperative agreement from the U.S. Government. This number is a nine-digit identification number, which uniquely identifies business entities. Obtaining a DUNS number is easy and there is no charge. To obtain a DUNS number, access http://www.dunandbradstreet.com or call 1-866-705-5711. Please ensure that your DUNS number is included in the appropriate box of the SF-424 which is part of the formal application package.

IV.3b All proposals must contain an executive summary, proposal narrative and budget.

Please Refer to the Solicitation Package. It contains the mandatory Proposal Submission Instructions (PSI) document and the Project Objectives, Goals and Implementation (POGI) document for additional formatting and technical requirements.

IV.3c You must have nonprofit status with the IRS at the time of application. If your organization is a private nonprofit which has not received a grant or cooperative agreement from ECA in the past three years, or if your organization received nonprofit status from the IRS within the past four years, you must submit the necessary documentation to verify nonprofit status as directed in the PSI document. Failure to do so will cause your proposal to be declared technically ineligible.

IV.3d Please take into consideration the following information when preparing your proposal narrative:

IV.3d.1 Adherence to all Regulations Governing the J Visa: The Bureau of Educational and Cultural Affairs is placing renewed emphasis on the secure and proper administration of Exchange Visitor (J visa) Programs and adherence by grantees and sponsors to all regulations governing the J visa. Therefore, proposals should demonstrate the applicant's capacity to meet all requirements governing the administration of the Exchange Visitor Programs as set forth in 22 CFR part 62, including the oversight of Responsible Officers and Alternate Responsible Officers, screening and selection of program participants, provision of pre-arrival information and orientation to participants, monitoring of participants, proper maintenance and security of forms, recordkeeping, reporting and other requirements. The Grantee will be responsible for issuing DS-2019 forms to participants in this program.

A copy of the complete regulations governing the administration of Exchange Visitor (J) programs is available at http://exchanges.state.gov or from: United States Department of State, Office of Exchange Coordination and Designation, ECA/EC/ECD—SA-44, Room 734, 301 4th Street, SW., Washington, DC 20547. Telephone: (202) 401-9810. Fax: (202) 401-9809. Please refer to Solicitation Package for further information.

IV.3d.2 Diversity, Freedom and Democracy Guidelines: Pursuant to the Bureau's authorizing legislation, programs must maintain a non-political character and should be balanced and representative of the diversity of American political, social, and cultural life. “Diversity” should be interpreted in the broadest sense and encompass differences including, but not limited to ethnicity, race, gender, religion, geographic location, socio-economic status, and disabilities. Applicants are strongly encouraged to adhere to the advancement of this principle both in program administration and in program content. Please refer to the review criteria under the ‘Support for Diversity' section for specific suggestions on incorporating diversity into your proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

IV.3d.3 Program Monitoring and Evaluation: Proposals must include a plan to monitor and evaluate the project's success, both as the activities unfold and at the end of the program. The Bureau recommends that your proposal include a draft survey questionnaire or other technique plus a description of a methodology to use to link outcomes to original project objectives. The Bureau expects that the grantee will track participants or partners and be able to respond to key evaluation questions, including satisfaction with the program, learning as a result of the program, changes in behavior as a result of the program, and effects of the program on institutions (institutions in which participants work or partner institutions). The evaluation plan should include indicators that measure gains in mutual understanding as well as substantive knowledge.

Successful monitoring and evaluation depend heavily on setting clear goals and outcomes at the outset of a program. Your evaluation plan should include a description of your project's objectives, your anticipated project outcomes, and how and when you intend to measure these outcomes (performance indicators). The more that outcomes are “smart” (specific, measurable, attainable, results-oriented, and placed in a reasonable time frame), the easier it will be to conduct the evaluation. You should also show how your project objectives link to the goals of the program described in this RFGP.

Your monitoring and evaluation plan should clearly distinguish between program outputs and outcomes. Outputs are products and services delivered, often stated as an amount. Output information is important to show the scope or size of project activities, but it cannot substitute for information about progress towards outcomes or the results achieved. Examples of outputs include the number of people trained or the number of seminars conducted. Outcomes, in contrast, represent specific results a project is intended to achieve and is usually measured as an extent of change. Findings on outputs and outcomes should both be reported, but the focus should be on outcomes.

We encourage you to assess the following four levels of outcomes, as they relate to the program goals set out in the RFGP (listed here in increasing order of importance):

Participant satisfaction with the program and exchange experience.

Participant learning, such as increased knowledge, aptitude, skills, and changed understanding and attitude. Learning includes both substantive (subject-specific) learning and mutual understanding.

Participant behavior, concrete actions to apply knowledge in profession or home community; greater participation and responsibility in civic organizations; interpretation and explanation of experiences and new knowledge gained; continued contacts between participants, community members, and others.

Institutional changes, such as increased collaboration and partnerships, policy reforms, new programming, and organizational improvements.

Please note: Consideration should be given to the appropriate timing of data collection for each level of outcome. For example, satisfaction is usually captured as a short-term outcome, whereas behavior and institutional changes are normally considered longer-term outcomes.

Overall, the quality of your monitoring and evaluation plan will be judged on how well it: (1) Specifies intended outcomes; (2) gives clear descriptions of how each outcome will be measured; (3) identifies when particular outcomes will be measured; and (4) provides a clear description of the data collection strategies for each outcome (i.e., surveys, interviews, or focus groups). (Please note that evaluation plans that deal only with the first level of outcomes [satisfaction] will be deemed less competitive under the present evaluation criteria.)

Grantees will be required to provide reports analyzing their evaluation findings to the Bureau in their regular program reports. All data collected, including survey responses and contact information, must be maintained for a minimum of three years and provided to the Bureau upon request.

IV.3d.4. Describe your plans for: i.e. sustainability, overall program management, staffing, coordination with ECA and PAS or any other requirements etc.

IV.3e Please take the following information into consideration when preparing your budget:

IV.3e.1 Applicants must submit a comprehensive budget for the entire program. In addition, the proposal must include a comprehensive budget narrative demonstrating how costs were derived. The budget format should break out costs on a year-by-year basis. If applying to administer both the USET and USSP programs, the applicant's budget proposal should include a budget summary page that breaks out program and administrative costs assigned to each program. The total amount of funding requested from ECA may not exceed $1 million, if applying to administer both the USET and USSP programs, or $500,000, if applying to administer one of the two programs. At this level of funding, applicants are encouraged to budget for at least ten (10) students for degree study, i.e., at least five (5) each under the USET and USSP programs. The number of participants that the organization proposes to sponsor should be clearly stated. ECA reserves the right to reduce, revise or increase the proposed budget in accordance with funding availability and the needs of the program. There must be a summary budget as well as breakdowns reflecting both administrative and program budgets.

IV.3e.2 Allowable costs for the program include the following:

(1) Publicity, recruitment, selection, placement and communication with applicants and participants.

(2) Travel for student participants between home and program location.

(3) Tuition and fees, stipends for living costs, book allowances, and other necessary maintenance costs and expenses for the students.

(4) Advising and monitoring of students.

(5) Academic and cultural support and enrichment activities.

(6) Pre-return activities and evaluation.

(7) Staff and administrative expenses to carry out the program activities. Administrative and overhead costs should be as low as possible.

Please refer to the Solicitation Package for complete budget guidelines and formatting instructions.

IV.3f Submission Dates and Times: Application Deadline Date: April 14, 2005.

Explanation of Deadlines: In light of recent events and heightened security measures, proposal submissions must be sent via a nationally recognized overnight delivery service (i.e., DHL, Federal Express, UPS, Airborne Express, or U.S. Postal Service Express Overnight Mail, etc.) and be shipped no later than the above deadline. The delivery services used by applicants must have in-place, centralized shipping identification and tracking systems that may be accessed via the Internet and delivery people who are identifiable by commonly recognized uniforms and delivery vehicles. Proposals shipped on or before the above deadline but received at ECA more than seven days after the deadline will be ineligible for further consideration under this competition. Proposals shipped after the established deadlines are ineligible for consideration under this competition. It is each applicant's responsibility to ensure that each package is marked with a legible tracking number and to monitor/confirm delivery to ECA via the Internet. ECA will not notify you upon receipt of application. Delivery of proposal packages may not be made via local courier service or in person for this competition. Faxed documents will not be accepted at any time. Only proposals submitted as stated above will be considered. Applications may not be submitted electronically at this time.

Applicants must follow all instructions in the Solicitation Package.

Important note: When preparing your submission please make sure to include one extra copy of the completed SF-424 form and place it in an envelope addressed to “ECA/EX/PM.”

The original and 10 copies of the application should be sent to: U.S. Department of State, SA-44, Bureau of Educational and Cultural Affairs, Ref.: ECA/A/E/EAP-05-01, Program Management, ECA/EX/PM, Room 534, 301 4th Street, SW., Washington, DC 20547.

Along with the Project Title, all applicants must enter the above Reference Number in Box 11 on the SF-424 contained in the mandatory Proposal Submission Instructions (PSI) of the solicitation document.

IV.3g Intergovernmental Review of Applications: Executive Order 12372 does not apply to this program.

V. Application Review Information

V.1 Review Process

The Bureau will review all proposals for technical eligibility. Proposals will be deemed ineligible if they do not fully adhere to the guidelines stated herein and in the Solicitation Package. All eligible proposals will be reviewed by the program office, as well as the Public Diplomacy section overseas, where appropriate. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for cooperative agreements resides with the Bureau's Grants Officer.

Review Criteria

Technically eligible applications will be competitively reviewed according to the criteria stated below. These criteria are not rank ordered and all carry equal weight in the proposal evaluation:

(1) Quality of the program idea: Proposals should exhibit originality, substance, precision, and relevance to the program goals and mission. Proposals should demonstrate understanding of the participating nations and of the needs of students from the region(s) as related to the program goals.

(2) Program planning: Detailed agenda and relevant work plan should demonstrate substantive undertakings and logistical capacity. Agenda and plan should adhere to the program overview and guidelines described above. Each component of the program should be addressed.

(3) Ability to achieve program objectives: Objectives should be reasonable, feasible, and flexible. Proposals should explain how objectives will be met through specific activities to be carried out in the U.S., and in East Timor and/or the South Pacific region.

(4) Multiplier effect/impact: Programs should strengthen long-term mutual understanding, including maximum sharing of information and establishment of long-term institutional and individual linkages. Anticipated results of the program in East Timor and/or the South Pacific region as well as in the U.S. should be addressed.

(5) Diversity: Proposals should demonstrate substantive support for the Bureau's policy on diversity. To the full extent possible, scholarship recipients for this program should be representative of diversity in the following categories: country of origin/residence within country(ies); gender; ethnic community of origin within country(ies), where relevant; urban and rural regions (with emphasis on outreach beyond capital cities); and proposed fields of study within the general parameters outlined in this solicitation. Proposals should explain what efforts will be undertaken to achieve these goals. The U.S. study and enrichment programs should also incorporate and demonstrate the diversity of the American people, regions and culture.

(6) Institutional Capacity: Proposed personnel and institutional resources should be adequate and appropriate to achieve the program goals. Proposal should explain how the grantee organization will meet the requirements of students on this specific program. Proposals should describe the applicant's knowledge of, or prior experience with, students from East Timor, and/or the South Pacific nations, and/or other developing countries.

(7) Institution's Record/Ability: Proposals should demonstrate an institutional record of successful exchange programs, including responsible fiscal management and full compliance with all reporting requirements for past Bureau grants as determined by Bureau Grant Staff. The Bureau will consider the past performance of prior recipients and the demonstrated potential of new applicants.

(8) Follow-on Activities: Proposals should provide a plan for continued follow-on activity (without Bureau support) ensuring that Bureau-supported programs are not isolated events.

(9) Project Evaluation: Proposals should include a plan to evaluate the program's success, both as the activities unfold and at the end of the program. A draft survey questionnaire or other technique plus a description of a methodology that will link outcomes to original project objectives is recommended. The grantee will be expected to submit quarterly program reports.

(10) Cost-effectiveness and Cost-sharing: The overhead and administrative components of the proposal, including salaries and honoraria, should be kept as low as possible. Proposals should maximize cost-sharing through other private sector support as well as institutional direct funding contributions. Budget estimates should be as accurate as possible over the full period of the grant.

VI. Award Administration Information

VI.1 Award Notices

Final awards cannot be made until funds have been appropriated by Congress, allocated and committed through internal Bureau procedures. Successful applicants will receive an Assistance Award Document (AAD) from the Bureau's Grants Office. The AAD and the original grant proposal with subsequent modifications (if applicable) shall be the only binding authorizing document between the recipient and the U.S. Government. The AAD will be signed by an authorized Grants Officer, and mailed to the recipient's responsible officer identified in the application.

Unsuccessful applicants will receive notification of the results of the application review from the ECA program office coordinating this competition.

VI.2 Administrative and National Policy Requirements

Terms and Conditions for the Administration of ECA agreements include the following:

Office of Management and Budget Circular A-122, “Cost Principles for Nonprofit Organizations.”

Office of Management and Budget Circular A-21, “Cost Principles for Educational Institutions.”

OMB Circular A-87, “Cost Principles for State, Local and Indian Governments.”

OMB Circular No. A-110 (Revised), Uniform Administrative Requirements for Grants and Agreements with Institutions of Higher Education, Hospitals, and other Nonprofit Organizations.

OMB Circular No. A-102, Uniform Administrative Requirements for Grants-in-Aid to State and Local Governments.

OMB Circular No. A-133, Audits of States, Local Government, and Non-profit Organizations.

Please reference the following Web sites for additional information: http://www.whitehouse.gov/omb/grants, and http://exchanges.state.gov/education/grantsdiv/terms.htm#articleI.

VI.3 Reporting Requirements

You must provide ECA with a hard copy original plus two copies of the following reports:

(1) A final program and financial report no more than 90 days after the expiration of the award;

(2) Quarterly financial and program reports, the latter of which should include record and analysis of program activities from that period.

Grantees will be required to provide reports analyzing their evaluation findings to the Bureau in their regular program reports. (Please refer to IV. Application and Submission Instructions (IV.3.d.3) above for Program Monitoring and Evaluation information.)

All data collected, including survey responses and contact information, must be maintained for a minimum of three years and provided to the Bureau upon request.

All reports must be sent to the ECA Grants Officer and ECA Program Officer listed in the final assistance award document.

VI.4 Program Data Requirements

Organizations awarded grants will be required to maintain specific data on program participants and activities in an electronically accessible database format that can be shared with the Bureau as required. As a minimum, the data must include the following:

(1) Name, address, contact information and biographic sketch of all persons who travel internationally on funds provided by the grant or who benefit from the grant funding but do not travel.

(2) Itineraries of international and domestic travel, providing dates of travel and cities in which any exchange experiences take place. Final schedules for in-country and U.S. activities must be received by the ECA Program Officer at least three work days prior to the official opening of the activity.

VII. Agency Contacts

For questions about this announcement, contact: Matthew McMahon, Program Officer, East Asia and Pacific Programs Branch (ECA/A/E/EAP), Room 208, ECA/A/E/EAP-05-01, U.S. Department of State, SA-44, 301 4th Street, SW., Washington, DC 20547, phone: (202) 453-8102, fax: (202) 453-8107, e-mail: mcmahonmp@state.gov.

Individual students interested in applying for either the USET or USSP scholarship should not contact the Office of Academic Programs. Instead they should visit the following Web site for more information on the current programs: http://www.eastwestcenter.org/edu-sp.asp.

All correspondence with the Bureau concerning this RFGP should reference the above title and number ECA/A/E/EAP-05-01.

Please read the complete Federal Register announcement before sending inquiries or submitting proposals. Once the RFGP deadline has passed, Bureau staff may not discuss this competition with applicants until the proposal review process has been completed.

VIII. Other Information

Notice: The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements per section VI.3 above.

Dated: February 15, 2005.
C. Miller Crouch,
Principal Deputy Assistant Secretary, Bureau of Educational and Cultural Affairs, Department of State.

[FR Doc. 05-3698 Filed 2-24-05; 8:45 am]

BILLING CODE 4710-05-P